DEPARTMENT OF COMMERCE

International Trade Administration

[A-570-848]

Freshwater Crawfish Tail Meat from the People's Republic of China: Notice of Final Results of Antidumping Duty Administrative Review

AGENCY: Import Administration, International Trade Administration, Department of Commerce.

SUMMARY: On October 7, 2005, the Department of Commerce (“the Department”) published the preliminary results of its administrative review of the antidumping duty order on freshwater crawfish tail meat from the People's Republic of China (“PRC”). See Freshwater Crawfish Tail Meat from the People's Republic of China: Notice of Preliminary Results of Antidumping Duty Administrative Review, 70 FR 58672 (“Preliminary Results”). Based on our analysis of the record, including factual information obtained since the preliminary results, we have made changes to the margin calculation for Yancheng Hi-King. Therefore, the final results differ from the preliminary results. See Final Results of Review section, below.

EFFECTIVE DATE: February 10, 2006.

FOR FURTHER INFORMATION CONTACT: Scot Fullerton or Erin Begnal, AD/CVD Operations, Import Administration, International Trade Administration, U.S. Department of Commerce, 14th Street and Constitution Avenue, NW., Washington, DC 20230; telephone: (202) 482-1386 or (202) 482-1442, respectively.

SUPPLEMENTARY INFORMATION:

Background

On October 7, 2005, the Department published the preliminary results of its administrative review of the antidumping duty order on freshwater crawfish tail meat from the PRC. See Preliminary Results. The administrative review covers four exporters or producer/exporters: (1) Yancheng Hi-King Agriculture Developing Co., Ltd. (“Yancheng Hi-King”); (2) Yancheng Yaou Seafood Co., Ltd. (“Yancheng Yaou”)¹; (3) China Kingdom International (“China Kingdom”); and (4) Weishan Zhenyu Foodstuff Co., Ltd. (“Weishan Zhenyu”), and exports of the subject merchandise to the United States during the period September 1, 2003, through August 31, 2004.

¹ The Department determined that Yancheng Yaou and Qingdao Zhengri Seafood Co., Ltd. (“Qingdao Zhengri”) should be treated as a single entity in the 99/00 administrative review. See Freshwater Crawfish Tail Meat from the People's Republic of China; Notice of Final Results of Antidumping Duty Administrative Review, and Final Partial Rescission of Antidumping Duty Administrative Review, 67 FR 19546, (April 22, 2002). As the Department was not presented with information sufficient to demonstrate that the companies should no longer be treated as a single entity, consistent with the Department's practice, the Department continued to treat Yancheng Yaou and Qingdao Zhengri as a single entity in subsequent reviews, including the instant review.

We invited parties to comment on our Preliminary Results, and received a case brief from the Crawfish Processors Alliance (“petitioners”), the Louisiana Department of Agriculture and Forestry, and Bob Odom, Commissioner of Agriculture (collectively, “Domestic Parties”), on November 7, 2005. We also received a rebuttal case brief from Yancheng Hi-King on November 14, 2005. On December 7, 2005, we held a public hearing in this review.

Scope of Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (“CBP”) in 2000, and HTSUS numbers 0306.19.00.10 and 0306.29.00.00, which are reserved for fish and crustaceans in general. The HTSUS subheadings are provided for convenience and customs purposes only. The written description of the scope of this order is dispositive.

Separate Rates

Yancheng Hi-King, Yancheng Yaou, China Kingdom and Weishan Zhenyu have requested separate, company-specific antidumping duty rates. In our preliminary results, we found that Yancheng Hi-King, China Kingdom, and Weishan Zhenyu had met the criteria for the application of a separate antidumping duty rate. See Preliminary Results. Also in the Preliminary Results, as Yancheng Yaou withdrew from verification, and filed a letter stating that it would no longer participate in the current administrative review, the Department determined that Yancheng Yaou had not established its eligibility for a separate rate. Id. We have not received any information since the Preliminary Results with respect to Yancheng Hi-King, Yancheng Yaou, China Kingdom and Weishan Zhenyu which would warrant reconsideration of our separate-rates determinations with respect to these companies.

Analysis of Comments Received

All issues raised in the briefs are addressed in the “Issues and Decision Memorandum for the Final Results in the 2003/2004 Administrative Review of Freshwater Crawfish Tail Meat from the People's Republic of China from Stephen J. Claeys, Deputy Assistant Secretary for Import Administration, to David Spooner, Assistant Secretary for Import Administration,” dated

February 6, 2006 (“Issues and Decision Memorandum”), which is hereby adopted by this notice. A list of the issues raised, all of which are in the Issues and Decision Memorandum, is attached to this notice as Appendix I. Parties can find a complete discussion of all issues raised in the briefs and the corresponding recommendations in this public memorandum on file in the Central Records Unit (“CRU”), room B-099 of the Herbert H. Hoover Building. In addition, a complete version of the Issues and Decision Memorandum can be accessed directly on the Web at http://ia.ita.doc.gov. The paper copy and electronic version of the Issues and Decision Memorandum are identical in content.

Changes Since the Preliminary Results

Based on the comments received from the interested parties, we have made changes to the margin calculation for Yancheng Hi-King. For the final results, we have updated the surrogate value for whole crawfish, based on definitive, final Spanish import statistics. For a discussion of these changes, see the Issues and Decision Memorandum at Comment 3.

Final Results of Review

We determine that the following antidumping duty margins exist:

Freshwater Crawfish Tail Meat from the PRC
Manufacturer/Exporter | Weighted-Average Margin (Percent)
China Kingdom International | 223.01
Weishan Zhenyu Foodstuff Co., Ltd. | 223.01
Yancheng Hi-King Agriculture Developing Co., Ltd. | 32.57
PRC-wide Rate (including Yancheng Yaou Seafood Co., Ltd.) | 223.01

For details on the calculation of the antidumping duty margin for Yancheng Hi-King, see “Yancheng Hi-King Analysis Memorandum for the Final Results of Administrative Review on Freshwater Crawfish Tail Meat from the People's Republic of China” (February 6, 2006). A public version of this memorandum is on file in the CRU.

Assessment of Antidumping Duties

The Department will determine, and CBP shall assess, antidumping duties on all appropriate entries. The Department will issue appropriate assessment instructions directly to CBP within 15 days of publication of the final results of this review. For assessment purposes for companies with a calculated rate, where possible, the Department calculated importer-specific assessment rates for freshwater crawfish tail meat from the PRC on a per-unit basis. Specifically, the Department divided the total dumping margins (calculated as the difference between normal value and export price) for each importer by the total quantity of subject merchandise sold to that importer during the POR to calculate a per-unit assessment amount. The Department will direct CBP to assess importer-specific assessment rates based on the resulting per-unit (i.e., per-kilogram) rates by the weight in kilograms of each entry of the subject merchandise during the POR.

Cash Deposits

The following cash-deposit requirements will be effective upon publication of the final results for shipments of the subject merchandise entered, or withdrawn from warehouse, for consumption on or after the publication date of the final results, as provided by section 751(a)(2)(C) of the Tariff Act of 1930, as amended (“the Act”): (1) For subject merchandise exported by China Kingdom and Weishan Zhenyu, the cash-deposit rate will be equal to 223.01 percent; (2) for subject merchandise exported by Yancheng Hi-King, we will establish a per-kilogram cash deposit rate which will be equivalent to the company-specific weighted-average margin established in this review; (3) the cash-deposit rate for PRC exporters who received a separate rate in a prior segment of the proceeding will continue to be the rate assigned in that segment of the proceeding; (4) for all other PRC exporters of subject merchandise which have not been found to be entitled to a separate rate (including Yancheng Yaou²), the cash-deposit rate will be the PRC-wide rate of 223.01 percent; (5) for all non-PRC exporters of subject merchandise, the cash-deposit rate will be the rate applicable to the PRC producer that supplied that exporter.

² As Yancheng Yaou withdrew from verification and from the administrative review, the Department will continue to treat Yancheng Yaou and Qingdao Zhengri as a single entity.

These deposit requirements, when imposed, shall remain in effect until publication of the final results of the next administrative review.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice is in accordance with sections 751(a)(1) and 777(i)(1) of the Act and 19 CFR 351.221(b)(5).

Dated: February 3, 2006.
David Spooner,
Assistant Secretary for Import Administration.

Appendix I

Comment 1: Bona Fides Determination for Yancheng Hi-King

Comment 2: Application of Combination Rate for Yancheng Hi-King

Comment 3: Use of Definitive Spanish Import Data

[FR Doc. E6-1892 Filed 2-9-06; 8:45 am]

BILLING CODE 3510-DS-S